DEPARTMENT OF ENERGY

Federal Energy Regulatory Commission

[Docket No. IC16-17-000]

Commission Information Collection Activities (FERC-551); Comment Request

AGENCY: Federal Energy Regulatory Commission.

ACTION: Comment request.

SUMMARY: In compliance with the requirements of the Paperwork Reduction Act of 1995, 44 U.S.C. 3507(a)(1)(D), the Federal Energy Regulatory Commission (Commission or FERC) is submitting its information collection FERC-551 (Reporting of Flow Volume and Capacity by Interstate Natural Gas Pipelines) to the Office of Management and Budget (OMB) for review of the information collection requirements. Any interested person may file comments directly with OMB and should address a copy of those comments to the Commission as explained below. The Commission previously issued a Notice in the Federal Register (81 FR 70671, 10/13/2016) requesting public comments. The Commission received no comments on the FERC-551 and is making this notation in its submittal to OMB.

DATES: Comments on the collection of information are due by January 26, 2017.

ADDRESSES: Comments filed with OMB, identified by the OMB Control No. 1902-0243, should be sent via email to the Office of Information and Regulatory Affairs: oira_submission@omb.gov. Attention: Federal Energy Regulatory Commission Desk Officer.

A copy of the comments should also be sent to the Commission, in Docket No. IC16-17-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-551, Reporting of Flow Volume and Capacity by Interstate Natural Gas Pipelines

OMB Control No.: 1902-0243

Type of Request: Three-year extension of the FERC-551 information collection requirements with no changes to the reporting requirements.

Abstract: The Commission has a statutory requirement to facilitate price transparency in markets for the sale or transportation of physical natural gas in interstate commerce, having due regard for the public interest, the integrity of those markets, fair competition, and the protection of consumers. FERC-551 uses the information provided by pipelines as part of its overall implementation of the statutory provisions of sections 23(a)(1) of the Natural Gas Act, 16 U.S.C. 717t-2(a)(1); Section 316 of EPAct 2005; section 23 of the Natural Gas Act; section 1281 of EPAct 2005; and section 220 to the Federal Power Act. More specifically, the Commission uses the pipelines' FERC-551 postings as part of fulfilling the transparency provisions of section 23(a)(1) of the Natural Gas Act as mandated by Congress. FERC relies in part on section 23(a)(1) of the Natural Gas Act, for authority to collect this information. The data requirements for pipelines are listed in the Code of Federal Regulations (CFR) under 18 CFR part 284.13, reporting requirements for interstate pipelines. The Commission has directed the data requirements under FERC-551 are to be posted on interstate pipelines' Web sites and not filed on formatted/printed forms.

FERC is obligated to prescribe rules for the collection and dissemination of information regarding the wholesale, interstate markets for natural gas and electricity. The Commission is authorized to adopt rules to assure the timely dissemination of information about the availability and prices of natural gas and natural gas transportation and electric energy and transmission service in such markets.

The posting requirements are based on the Commission's authority under section 23 of the NGA (as added by the Energy Policy Act of 2005, EPAct 2005), which directs the Commission, in relevant part, to obtain and disseminate “information about the availability and prices of natural gas at wholesale and in interstate commerce.” ¹ This provision enhances the Commission's authority to ensure confidence in the nation's natural gas markets. The Commission's market-oriented policies for the wholesale natural gas industry require that interested persons have broad confidence that reported market prices accurately reflect the interplay of legitimate market forces. Without confidence in the efficiency of price formation, the true value of transactions is very difficult to determine. Further, price transparency facilitates ensuring that jurisdictional prices are “just and reasonable.” ²

¹ Section 23(a)(2) of the NGA, 15 U.S.C. 717t-2(a)(2) (2000 & Supp. V 2005).

² See sections 4 and 5 of the NGA, 15 U.S.C. 717c and 717d.

The posting for FERC-551 occurs on a daily basis. The data must be available for download for 90 days and must be retained by the pipeline for 3 years.

The Commission uses the daily posting of information by interstate pipelines to provide information regarding the price and availability of natural gas to market participants, state commissions, FERC, and the public. The postings contribute to market transparency by aiding the understanding of the volumetric/availability drivers behind price movements and it provides a better picture of disruptions in interstate natural gas flows.

Type of Respondents: Interstate Natural Gas Pipelines.

Estimate of Annual Burden: ³ The Commission estimates the annual public reporting burden for the information collection as:

³ Burden is defined as the total time, effort, or financial resources expended by persons to generate, maintain, retain, or disclose or provide information to or for a Federal agency. For further explanation of what is included in the information collection burden, refer to 5 Code of Federal Regulations 1320.3.

FERC-551: Reporting of Flow Volume and Capacity by Interstate Natural Gas Pipelines
| Number of respondents | Annual number of responses per respondent | Total number of responses | Average burden & cost per response ⁴ | Total annual burden hours & total annual cost | Cost per respondent ($)
| (1) | (2) | (1) * (2) = (3) | (4) | (3) * (4) = (5) | (5) ÷ (1)
FERC-551 | 169 | 365 | 61,685 | 0.5 hrs.; $30.22 | 30,842.50 hrs.; $1,864,120.70 | 182.5 hrs.; $11,030.30.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁴ The estimates for cost per response are derived using the following formula: Average Burden Hours per Response × $60.44 per hour = Average Cost per Response. This figure includes wages plus benefits and comes from the Bureau of Labor Statistics (http://bls.gov/oes/current/naics2_22.htm data from May 2015) using Management Analyst category code (13-1111).

Dated: December 20, 2016.
Kimberly D. Bose,
Secretary.

[FR Doc. 2016-31096 Filed 12-23-16; 8:45 am]

BILLING CODE 6717-01-P